INTERNATIONAL TRADE COMMISSION

[Investigation No. 731-TA-149 (Third Review)]

Barium Chloride From China

Determination

On the basis of the record¹ developed in the subject five-year review, the United States International Trade Commission (Commission) determines, pursuant to section 751(c) of the Tariff Act of 1930 (19 U.S.C. 1675(c)), that revocation of the antidumping duty order on barium chloride from China would be likely to lead to continuation or recurrence of material injury to an industry in the United States within a reasonably foreseeable time.

¹ The record is defined in sec. 207.2(f) of the Commission's Rules of Practice and Procedure (19 CFR 207.2(f)).

Background

The Commission instituted this review effective July 1, 2009 (74 FR 31757, July 2, 2009) and determined on October 5, 2009 that it would conduct a full review (74 FR 54069, October 21, 2009). Notice of the scheduling of the Commission's review and of a public hearing to be held in connection therewith was given by posting copies of the notice in the Office of the Secretary, U.S. International Trade Commission, Washington, DC, and by publishing the notice in the Federal Register on November 30, 2009 (74 FR 62587). Counsel for the domestic interested party filed a request to appear at the hearing or, in the alternative, for consideration of cancellation of the hearing. Counsel indicated a willingness to submit written testimony and responses to any questions by a date to be specified by the Commission in lieu of an actual hearing. No other party filed a request to appear at the hearing. Consequently, the public hearing in connection with the review, scheduled for April 15, 2010, was cancelled (75 FR 20625, April 20, 2010).

The Commission transmitted its determination in this review to the Secretary of Commerce on June 9, 2010. The views of the Commission are contained in USITC Publication 4157 (June 2010), entitled Barium Chloride from China: Investigation No. 731-TA-149 (Third Review).

By order of the Commission.
Issued: June 9, 2010.
Marilyn R. Abbott,
Secretary to the Commission.

[FR Doc. 2010-14234 Filed 6-14-10; 8:45 am]

BILLING CODE 7020-02-P